DEPARTMENT OF COMMERCE

International Trade Administration

District Export Council Nomination Opportunity

AGENCY: International Trade Administration, Commerce.

ACTION: Notice.

Mission Statement: Notice and call for membership for one of the Sixty District Export Councils nationwide.

SUMMARY: The U.S. Department of Commerce is currently seeking expressions of interest from individuals in serving as a member of one of the Sixty District Export Councils (DECs) nationwide. The DECs are closely affiliated with the U.S. Export Assistance Centers of the U.S. Commercial Service. DECs combine the energies of more than 1,500 exporters and export service providers who promote U.S. exports. DEC members volunteer at their own expense.

DATES: Applications for nomination to a DEC must be submitted by the designated local USEAC representative by November 1, 2007.

FOR FURTHER INFORMATION CONTACT: Contact your local U.S. Export Assistance Center at: http://www.buyusa.gov/home/us.html; or call Andy Karellas with the U.S. Commercial Service at (202) 482-3642, Fax: 202-482-0687.

SUPPLEMENTARY INFORMATION: DECs sponsor and participate in numerous trade promotion activities, as well as supply specialized expertise to small and medium-sized businesses that are interested in exporting.

Selection Process: About half of the approximately 30 positions on each of the 60 DECs are open for nominations for the term that ends December 31, 2011. Nominees are recommended by the local U.S. Export Assistance Center Director, in consultation with the DEC and other local export promotion partners. After a review process, nominees are selected and appointed to a DEC by the Secretary of Commerce.

Membership Criteria: Each DEC is interested in nominating highly-motivated people. Appointment is based upon an individual's energetic leadership, position in the local business community, knowledge of day-to-day international operations, interest in export development, and willingness and ability to devote time to council activities. Members include exporters, export service providers and others whose profession supports U.S. export promotion efforts.

Authority: 15 U.S.C. 1501 et seq., 15 U.S.C. 4721.

Dated: October 2, 2007.
Andy Karellas,
Office of Domestic Operations, U.S. Commercial Service, U.S. Department of Commerce.

[FR Doc. E7-19854 Filed 10-5-07; 8:45 am]

BILLING CODE 3510-FP-P